DEPARTMENT OF TRANSPORTATION

Surface Transportation Board

Senior Executive Service Performance Review Board (PRB) and Executive Resources Board (ERB) Membership

AGENCY: Surface Transportation Board, DOT.

ACTION: Senior Executive Service Performance Review Board (PRB) and Executive Resources Board (ERB) Membership.

SUMMARY: Effective immediately, the membership of the PRB and ERB is as follows:

Performance Review Board

Leland L. Gardner, Chairman

Rachel D. Campbell, Member

Craig M. Keats, Member

Lucille Marvin, Alternate Member

Executive Resources Board

Rachel D. Campbell, Chairman

Lucille Marvin, Member

Joseph H. Dettmar, Member

William Huneke, Alternate Member

FOR FURTHER INFORMATION CONTACT: If you have any questions, please contact Paula Chandler at paula.chandler@stb.dot.gov or (202) 245-0340.

Dated: June 8, 2015.
Jeffrey Herzig,
Clearance Clerk.

[FR Doc. 2015-14697 Filed 6-15-15; 8:45 am]

BILLING CODE 4915-01-P